DEPARTMENT OF LABOR

Employment and Training Administration

[NAFTA—03404]

Thomas And Betts Corp. Communications Division Now Known As ACI Communications Kent, Washington; Amended Certification Regarding Eligibility To Apply for NAFTA Transitional Adjustment Assistance

In accordance with Section 250(a), Subchapter 2, Title II, of the Trade Act of 1974, as amended (19 U.S.C. 2273), the Department of Labor issued a Certification of Eligibility to Apply for NAFTA Transitional Adjustment Assistance on January 31, 2000, applicable to workers of Thomas and Betts Corp., Communications Division, Kent, Washington. The notice was published in the Federal Register on February 15, 2000 (65 FR 7675).

At the request of a State agency, the Department reviewed the certification for workers of the subject firm. The workers were engaged in the production of cable TV communication products. The company reports that in the latter part of 1999, Thomas and Betts Corp. sold the Communications Division located in Kent Washington to ACI Communications.

Accordingly, the Department is amending the certification correctly identify the new title name to read “Thomas and Betts Corp., Communications Div. now known as ACI Communications”, Kent, Washington.

The intent of the Department's certification is to include all workers of Thomas and Betts Corp., Communications Div. who were adversely affected by a shift of production to Mexico.

The amended notice applicable to NAFTA-03404 is hereby issued as follows:

All workers of Thomas and Betts Corp., Communications Div., now known as ACI Communications, Kent, Washington who became totally or partially separated from employment on or after August 16, 1998 through January 31, 2002 are eligible to apply for NAFTA-TAA under Section 250 of the Trade Act of 1974;

Signed at Washington, DC this 23rd day of August, 2000.
Edward A. Tomchick,
Director, Division of Trade Adjustment Assistance.

[FR Doc. 00-22758 Filed 9-5-00; 8:45 am]

BILLING CODE 4510-30-M